ENVIRONMENTAL PROTECTION AGENCY

[EPA-HQ-OA-2013-0320; FRL-11531-02-OA]

Revised Technical Guidance for Assessing Environmental Justice in Regulatory Analysis: Extension of Public Comment Period

AGENCY: Environmental Protection Agency (EPA).

ACTION: Notice; extension of comment period.

SUMMARY: The Environmental Protection Agency (EPA) is announcing a 15-day extension of the public comment period on the draft revision of the Technical Guidance for Assessing Environmental Justice in Regulatory Analysis (EJ Technical Guidance). The original Federal Register document announcing the public comment period was published on November 15, 2023. The EPA is extending the deadline of the comment period from January 15, 2024 to January 30, 2024.

DATES: The public comment period for the notice published on November 15, 2023 (88 FR 78358) is being extended by 15 days. The EPA must receive comments on or before January 30, 2024.

ADDRESSES: To review the EJ Technical Guidance, please visit https://www.epa.gov/environmental-economics/epa-draft-revision-technical-guidance-assessing-environmental-justice. You may send comments, identified by Docket ID No. EPA-HQ-OA-2013-0320, by any of the following methods:

• Federal eRulemaking Portal: https://www.regulations.gov/ (our preferred method). Follow the online instructions for submitting comments.

• U.S. Environmental Protection Agency, EPA Docket Center, Office of Policy, Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. EPA-HQ-OA-2013-0320. Comments received may be posted without change to https://www.regulations.gov/, including any personal information provided. For detailed instructions on sending comments, see the “Public Participation” heading of the SUPPLEMENTARY INFORMATION section of this document.

FOR FURTHER INFORMATION CONTACT: Dr. Ann Wolverton, National Center for Environmental Economics, Office of Policy (Mail Code 1809A), Environmental Protection Agency, 1200 Pennsylvania Avenue NW, Washington, DC 20460; telephone number: 202-566-2278; email address: Wolverton.ann@epa.gov.

SUPPLEMENTARY INFORMATION:

I. Public Participation

A. Written Comments

Submit your comments, identified by Docket ID No EPA-HQ-OA-2013-0320, at https://www.regulations.gov (our preferred method), or the other methods identified in the ADDRESSES section. Once submitted, comments cannot be edited or removed from the docket. The EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

II. General Information

A. Where can I find the document?

The draft revision of the Technical Guidance for Assessing Environmental Justice in Regulatory Analysis is available at https://www.epa.gov/environmental-economics/epa-draft-revision-technical-guidance-assessing-environmental-justice.

B. What is the purpose of the document?

The Technical Guidance for Assessing Environmental Justice in Regulatory Analysis (Guidance) addresses the issue of how to analytically consider environmental justice in regulatory analyses. It directs EPA analysts to assess whether environmental justice concerns exist prior to the rulemaking and whether such concerns are likely to be exacerbated or mitigated for each regulatory option under consideration. The technical guidance makes recommendations designed to ensure greater consistency across EPA assessments of EJ concerns for regulatory actions. The recommendations encourage analysts to conduct the highest quality analysis feasible, recognizing that data limitations, time and resource constraints, and analytic challenges will vary by media and circumstance. They are not designed to be prescriptive and do not mandate the use of a specific approach. Updates to the technical guidance reflect advancements in the state of the science; other new peer-reviewed Agency guidance documents; and new priorities and direction related to the conduct of environmental justice analysis, including Executive Order 14096. The technical guidance builds on the EPA's experience in evaluating environmental justice as part of the rulemaking analytic process and underscores the EPA's ongoing commitment to ensuring the just treatment and meaningful involvement of all people with respect to the development, implementation, and enforcement of environmental laws, regulations, and policies. The technical guidance will enable the EPA to conduct better analysis of regulations which will ultimately enable the EPA to make better decisions.

C. How will my comments be used?

Public comment received on the draft revision of the Technical Guidance for Assessing Environmental Justice in Regulatory Analysis will be reviewed and considered for incorporation into or modification of text in the final revised draft of the Guidance. The final draft Guidance will then undergo internal EPA review and revision, and then be finalized for publication following peer review by the EPA's Science Advisory Board. An EPA Science Advisory Board (SAB) review of this document will be announced in December 2023. Information on the SAB review can be found here: https://sab.epa.gov/ords/sab/r/sab_apex/sab/home.

Victoria Arroyo,
Associate Administrator, Office of Policy.

[FR Doc. 2023-28598 Filed 12-27-23; 8:45 am]

BILLING CODE 6560-50-P